DEPARTMENT OF TRANSPORTATION

Federal Aviation Administration

First Meeting Special Committee 236 Standards for Wireless Avionics Intra-Communication System (WAIC) Within 4200-4400 MHz

AGENCY: Federal Aviation Administration (FAA), U.S. Department of Transportation (DOT).

ACTION: Notice of First Meeting Special Committee 236, Standards for Wireless Avionics Intra-Communication System (WAIC) within 4200-4400 MHz.

SUMMARY: The FAA is issuing this notice to advise the public of a meeting of First Meeting Special Committee 236, Standards for Wireless Avionics Intra-Communication System (WAIC) within 4200-4400 MHz.

DATES: The meeting will be held August 9-10, 2016 from 9:00 a.m. to 5:00 p.m.

ADDRESSES: The meeting will be held at RTCA, Inc., 1150 18th Street NW., Suite 450, Washington, DC 20036.

FOR FURTHER INFORMATION CONTACT: Rebecca Morrison, (202) 330-0654 or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of First Meeting Special Committee 236, Standards for Wireless Avionics Intra-Communication System (WAIC) within 4200-4400 MHz. The agenda will include the following:

Tuesday August 9, 2016—9:00 a.m.-5:00 p.m.

1. Welcome

2. Administrative Remarks

3. Introductions

4. Agenda Review

5. RTCA Overview Presentation

a. Background on RTCA, MOPS, and Process

6. SC-236 Scope and Terms of Reference review

7. Background Presentation on WAIC

8. Background Presentation on WG-96 status and work

9. SC-236 Structure and Organization of Work

10. Proposed Schedule

11. RTCA workspace presentation

12. Other Business

13. Date and Place of Next Meeting

14. Adjourn

Thursday, August 10, 2016—9:00 a.m.-4:00 p.m.

1. Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 29, 2016.
Mohannad Dawoud,
Management & Program Analyst, Partnership Contracts Branch, ANG-A17, NexGen, Procurement Services Division, Federal Aviation Administration.

[FR Doc. 2016-15998 Filed 7-5-16; 8:45 am]

BILLING CODE 4910-13-P